DEPARTMENT OF DEFENSE

Department of the Navy

[USN-2007-0058]

Proposed Collection, Comment Request

AGENCY: Headquarters, U.S. Marine Corps, DoD.

ACTION: Notice.

SUMMARY: In compliance with 44 U.S.C. Sec. 3506(c)(2)(A)) of the Paperwork Reduction Act of 1995, Headquarters, U.S. Marine Corps, announces a proposed extension of an approved public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 26, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request additional information or to obtain a copy of the proposal and associated collection instruments, write to Commanding General, Marine Corps Recruiting Command, (Code OP), 3280 Russell Road, Quantico, VA 22134-5130, or contact Head, Officer Programs or Deputy, Officer Programs at (703) 784-9449/50/51.

Title; Associated Form; and OMB Number: Academic Certification for Marine Corps Officer Candidate Program; NAVMC Form 10469; OMB Control Number 0703-0011.

Needs and Uses: Used by Marine Corps officer procurement personnel, this form provides a standardized method for determining the academic eligibility of applicants for all reserve officer candidate programs. Use of this form is the only accurate and specific method to determine a reserve officer applicant's academic qualifications. Each applicant interested in enrolling in an undergraduate or graduate reserve officer commission program completes and returns the form.

Affected Public: Individuals or households.

Annual Burden Hours: 875.

Number of Respondents: 3,500.

Responses Per Respondent: 1.

Average Burden Per Response: 15 minutes.

Frequency: On occasion.

SUPPLEMENTARY INFORMATION:

Summary of Information Collection

Used by Marine Corps officer procurement personnel, this form provides a standardized method for determining the academic eligibility of applicants for all reserve officer candidate programs. Use of this form is the only accurate and specific method to determine a reserve officer applicant's academic qualifications. Each applicant interested in enrolling in an undergraduate or graduate reserve officer commission program completes and returns the form.

Dated: December 19, 2007.
Patricia L. Toppings,
Alternate OSD Federal Register Liaison Officer, Department of Defense.

[FR Doc. E7-25253 Filed 12-27-07; 8:45 am]

BILLING CODE 5001-06-P